DEPARTMENT OF THE INTERIOR

Fish and Wildlife Service

50 CFR Part 32

[Docket No. FWS-R9-NSR-2008-0042; 93270-1265-0000-4A]

RIN 1018-AV80

2008-2009 Refuge-Specific Hunting and Sport Fishing Regulations—Modifications; Corrections

AGENCY: Fish and Wildlife Service, Interior.

ACTION: Final rule; correcting amendments.

SUMMARY: On September 3, 2009, we published a final rule in the Federal Register implementing pertinent refuge-specific regulations and amending other existing refuge-specific regulations that pertain to migratory game bird hunting, upland game hunting, big game hunting, and sport fishing for the 2008-2009 season. The rule contained errors in the amendatory language and the regulatory text. This document corrects those errors.

DATES: This correction is effective October 1, 2009.

FOR FURTHER INFORMATION CONTACT: Leslie Marler (703) 358-2397.

SUPPLEMENTARY INFORMATION: On September 3, 2009, we published a final rule (74 FR 45674) that implemented pertinent refuge-specific regulations and amended other existing refuge-specific regulations pertaining to migratory game bird hunting, upland game hunting, big game hunting, and sport fishing for the 2008-2009 season. This rule became effective on the day of publication, September 3, 2009. In the rule, several of our amendatory instructions for adding or revising paragraphs in the regulatory text section were not clear. This document corrects error that arose from those unclear instructions. In addition, this document contains the following corrections to the regulatory text:

In the State of Alabama, the correction for Cahaba National Wildlife Refuge reflects that conditions B.2., B.3., and B.7. apply rather than B.8. which does not exist. The correction for Mountain Longleaf National Wildlife Refuge reflects that conditions A.1. through A.4. apply rather than A.5. which does not exist.

In the State of Georgia, the correction for Savannah National Wildlife Refuge reflects the addition of a sentence to C.10. that was inadvertently omitted.

In the State of Maryland, the correction for Patuxent Research Refuge reflects removal of extraneous characters at the end of condition D.18.vi. inadvertently applied during XML coding of the document.

Administrative Procedure Act

We find good cause to waive notice and comment on this correction, under 5 U.S.C. 553(b)(B), and the 30-day delay in effective date under 5 U.S.C. 553(d). Notice and comment are unnecessary because these corrections are minor, editorial changes. The substance of the regulations remains unchanged. Therefore, this correction is being published as a final regulation and is effective upon publication.

List of Subjects in 50 CFR Part 32

Fishing, Hunting, Reporting and recordkeeping requirements, Wildlife, Wildlife refuges.

Accordingly, we amend 50 CFR part 32 as follows:

PART 32—HUNTING AND FISHING

1. The authority citation for part 32 continues to read:

Authority: 5 U.S.C. 301; 16 U.S.C. 460k, 664, 668dd-668ee, and 715i.

2. Amend § 32.20 by:

a. Revising paragraph C.6. of Cahaba National Wildlife Refuge and paragraphs B.1., and C.1.of Mountain Longleaf National Wildlife Refuge; and

b. Adding paragraph C.5.of Mountain Longleaf National Wildlife Refuge.

The addition and revisions read as follows:

§ 32.20 Alabama.

* * * * *

Cahaba River National Wildlife Refuge

* * * * *

C. Big Game Hunting. * * *

6. Conditions B2, B3, and B7 apply.

* * * * *

Mountain Longleaf National Wildlife Refuge

* * * * *

B. * * *

1. Conditions A1 through A4 apply.

* * * * *

C. * * *

1. Conditions A1 through A4 apply.

* * * * *

5. We require tree stand users to use a safety belt or harness.

* * * * *

3. Amend § 32.29 by revising paragraphs C.10. and C.11. of Savannah National Wildlife Refuge to read as follows:

§ 32.29 Georgia.

* * * * *

Savannah National Wildlife Refuge

* * * * *

C. * * *

10. We allow turkey hunting during a special 16-day turkey hunt in April. We only allow shotguns with #2 shot or smaller and bows for turkey hunting in accordance with State regulations. We prohibit possession or use of slugs or buckshot during turkey hunts. We prohibit crossbows (see § 27.43 of this chapter).

11. You must remove hunt stands daily (see § 27.93 of this chapter).

* * * * *

4. Amend § 32.31 by adding paragraphs A.4. and A.5. of Kootenai National Wildlife Refuge to read as follows:

§ 32.31 Idaho.

* * * * *

Kootenai National Wildlife Refuge

A. * * *

4. On waterfowl hunt days, we allow public entry onto the refuge from 3:00 a.m. until 1 hour after legal sunset.

5. We prohibit overnight vehicle parking on the refuge.

* * * * *

5. Amend § 32.39 by revising paragraph D.18.vi. of Patuxent Research Refuge to read as set forth below:

§ 32.39 Maryland.

* * * * *

Patuxent Research Refuge

* * * * *

D. Sport Fishing. * * *

* * * * *

18. * * *

vi. We prohibit the use of any type of watercraft.

* * * * *

§ 32.47 [Amended]

6. Amend § 32.47 by removing Stillwater Management Area.

7. Amend § 32.66 by adding paragraphs C.10. and C.11. of Great Dismal Swamp National Wildlife Refuge to read as follows:

§ 32.66 Virginia.

* * * * *

Great Dismal Swamp National Wildlife Refuge

* * * * *

C. * * *

10. We prohibit baiting or hunting over bait (see § 32.2(h)).

11. We prohibit possession of alcoholic beverages (see § 32.2(j)).

* * * * *

Dated: September 24, 2009.
Leslie A. Marler,
National Wildlife Refuge System Federal Register Liaison.

[FR Doc. E9-23482 Filed 9-30-09; 8:45 am]

BILLING CODE 4310-55-P